DEPARTMENT OF TRANSPORTATION

National Highway Traffic Safety Administration

[Docket Number NHTSA-2011-0084]

Agency Information Collection Activities; Notice and Request for Comment; Compliance Labeling of Retroreflective Materials for Heavy Trailer Conspicuity

AGENCY: National Highway Traffic Safety Administration (NHTSA), Department of Transportation (DOT).

ACTION: Request for public comment on the reinstatement of a previously approved collection of information.

SUMMARY: The Department of Transportation (DOT) invites public comments about our intention to request the Office of Management and Budget (OMB) approval on the reinstatement of a previously approved collection of information on Federal Motor Vehicle Safety Standard (FMVSS) No. 108. Before a Federal agency can collect certain information from the public, it must receive approval from the OMB. Under procedures established by the Paperwork Reduction Act of 1995, before seeking OMB approval, Federal agencies must solicit public comment on proposed collections of information, including extensions and reinstatement of previously approved collections. This document describes a collection of labeling information on FMVSS No. 108, for which NHTSA intends to seek OMB approval (OMB Control number 2127-0569). The labeling requirement is for retroreflective sheeting material.

DATES: Comments must be received on or before September 8, 2020.

ADDRESSES: You may submit comments [identified by Docket No. NHTSA-2011-0084] by any of the following methods:

• Federal eRulemaking Portal: Go to http://www.regulations.gov. Follow the online instructions for submitting comments. Mail: Docket Management Facility; M-30, U.S. Department of Transportation, West Building Ground Floor, Rm. W12-140, 1200 New Jersey Avenue SE, Washington, DC 20590.

• Hand Delivery or Courier: West Building Ground Floor, Room W12-140, 1200 New Jersey Avenue SE, Washington, DC 20590 between 9 a.m. and 5 p.m. Eastern Time, Monday through Friday, except Federal holidays.

• Fax: (202) 493-2251.

Regardless of how you submit your comments, please be sure to mention the docket number of this document and identify the proposed collection of information for which a comment is provided, by referencing its OMB clearance number.

Note: All comments received will be posted without change to http://www.regulations.gov, including any personal information provided. Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: Complete copies of each request for collection of information may be obtained at no charge from Andrei Denes, U.S. Department of Transportation, NHTSA, 1200 New Jersey Avenue SE, Washington, DC 20590. Mr. Denes's telephone number is (202) 366-1810, and fax number is (202) 366-7002.

SUPPLEMENTARY INFORMATION: Under the Paperwork Reduction Act of 1995, before a proposed collection of information is submitted to OMB for approval, Federal agencies must first publish a document in the Federal Register providing a 60-day comment period and otherwise consult with members of the public and affected agencies concerning each proposed collection of information. The OMB has promulgated regulations describing what must be included in such a document. In compliance with these requirements, NHTSA asks for public comments on the following proposed collection of information:

Title: 49 CFR 571.108, Standard No. 108; Lamps, reflective devices, and associated equipment; Compliance Labeling of Retroreflective Materials Heavy Trailer Conspicuity.

OMB Control Number: 2127-0569.

Type of Request: Reinstatement of a previously approved collection.

Type of Review Requested: Regular.

Length of Approval Requested: Three Years.

Abstract: 49 U.S.C. 30111, 30112, and 30117 of the National Traffic and Motor Vehicle Safety Act of 1966 authorize the issuance of Federal Motor Vehicle Safety Standards (FMVSS). The agency, in prescribing a FMVSS, considers available relevant motor vehicle safety data and consults with other agencies, as it deems appropriate. Further, the statute mandates that, in issuing any FMVSS, the agency considers whether the standard is “reasonable, practicable and appropriate for the particular type of motor vehicle or motor vehicle equipment for which it is prescribed,” and whether such a standard will contribute to carrying out the purpose of the Act. The Secretary is authorized to issue such rules and regulations as deemed necessary to carry out these requirements. Under this authority, the agency issued FMVSS No. 108, specifying labeling requirements to aid the agency in achieving many of its safety goals.

This notice requests comments on the labeling requirements of FMVSS No. 108, “Lamp, reflective devices and associated equipment,” which requires that the inscription “DOT-C2”, “DOT-C3”, or “DOT-C4”, as appropriate, constituting a certification that the retroreflective sheeting conforms to the requirements of the standard, appear at least once on the exposed surface of each white or red segment of retroreflective sheeting, and at least once every 300 mm on retroreflective sheeting that is white only. The characters must be not less than 3 mm high, and must be permanently stamped, etched, molded, or printed in indelible ink.

Affected Public: Manufacturers of conspicuity grade retroreflective materials.

Estimated Number of Respondents: 3.

The respondents are likely to be manufacturers of the conspicuity material. The agency estimates that currently there are three manufacturers producing conspicuity material.

Frequency: As needed.

Number of Responses: 190,000,000.

It is estimated that there are 2.34 million trailers and 0.54 million truck tractors that require new conspicuity tape annually. On average, a trailer requires approximately 60 ft. of reflective tape and a truck tractor requires about 4 ft. The labels are to be placed at intervals varying between 150 mm and 300 mm on rolls of retroreflective conspicuity tape. Considering the length of tape required per trailer and truck tractor, and that the labeling is applied on average every 9 in. (225 mm), a total number of 80 labels per trailer and 6 labels per truck tractor are required. Therefore, it is estimated that 190 million labels will be required annually (2.34 million trailers × 80 labels + 0.54 million truck tractors × 6 labels).

Estimated Total Annual Burden Hours: 3 hours.

The compliance symbol labeling program imposes only a minor hour burden per respondent, or three total hours, for the collection or reporting based on a maximum time required to ensure that the correct inscription is being applied to the sheeting by the printing presses. The application of symbols is performed by automated equipment incorporated in the production process of the retroreflective sheeting.

Estimated Total Annual Burden Cost: $4,000.

The cost to respondents is estimated based on information that was supplied by the respondents regarding the cost of supplying or modifying printing rollers to apply the label. The cost to manufacturers of applying the label requirement is the maintenance and amortization of printing rollers and the additional dye or ink consumed. The labels are printed during the normal course of steady flow manufacturing operations and do not add additional time to the production process.

Two methods of printing the label are in use. One method uses the same roller that applies the dye to the red segments of the material pattern. The roller is resurfaced annually using a computerized etching technique. The label was incorporated in the software to drive the roller resurfacing in 1993, and there is no additional cost to continue the printing of the label. In fact, costs would be incurred to discontinue the label.

The second method uses a separate roller and dye to apply the label. The manufacturer using this technique reported that the rollers have been in service for five years without detectable wear and predicted a service life of at least fifteen years. Four rollers costing about $2,500 each are used for a total of $10,000. If all three manufacturers chose to use this method, a total of 12 rollers would be used for a total cost of $30,000. A straight-line depreciation of the rollers over 15 years ($30,000 divided by 15 years) equals $2,000 per year. The total cost of the dye required is derived from the number of labels required to be printed yearly and the dye required for each label. The total number of labels printed annually is about 190 million. Therefore, at a cost of approximately $40 per gallon of dye and using about 0.001 milliliters of dye per label, the total cost of dye to print all the labels is estimated to be $2,000 (190 million labels × $40/gal × 0.001 ml × 0.000264172 ml/gal). With the yearly cost to replace the rollers of $2,000 and an annual allowance of $2,000 for dye, the annual total industry cost of maintaining the label is about $4,000.

Estimated annual cost burden:

Additional cost of maintaining printing rollers with added label—$0

Annual cost of separate printing rollers for label (where used)—$2,000

Annual cost of additional dye or ink—$2,000

Total annual respondent cost—$4,000

Number of rollers | Cost of each roller | Total cost rollers | Depreciation over 15 years | Total annual labels (million) | Annual additional dye allowance | Est. total annual cost to maintain label
12 | $2,500 | $30,000 | $2,000 | 190 | $2,000 | $4,000

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

(Authority: The Paperwork Reduction Act of 1995; 44 U.S.C. chapter 35; and delegation of authority at 49 CFR 1.95 and 501.8)

Raymond R. Posten,
Associate Administrator for Rulemaking.

[FR Doc. 2020-14570 Filed 7-6-20; 8:45 am]

BILLING CODE 4910-59-P